TENNESSEE VALLEY AUTHORITY

Sunshine Act Meetings

Meeting No. 17-04

The TVA Board of Directors will hold a public meeting on November 9, 2017, at Pickwick Landing State Park Inn, 116 State Park Lane, Counce, Tennessee 38326. The public may comment on any agenda item or subject at a public listening session which begins at 9:30 a.m. (CT). Following the end of the public listening session, the meeting will be called to order to consider the agenda items listed below. On-site registration will be available until 15 minutes before the public listening session begins at 9:30 a.m. (CT). Preregistered speakers will address the Board first. TVA management will answer questions from the news media following the Board meeting.

Status: Open.

Agenda

Chair's Welcome

Old Business

Approval of minutes of the August 23, 2017, Board Meeting

New Business

1. Report from President and CEO

2. Report of the Finance, Rates, and Portfolio Committee

A. Financial Performance Update

B. Long Term Service Agreement for Lagoon Creek

C. Large and Medium Transformers

3. Report of the People and Performance Committee

A. Fiscal Year 2017 Performance and Compensation

B. CEO Compensation for Fiscal Year 2018

4. Report of the Audit, Risk, and Regulation Committee

5. Report of the Nuclear Oversight Committee

6. Report of the External Relations Committee

A. Direct-served power arrangements

For more information: Please call TVA Media Relations at (865) 632-6000, Knoxville, Tennessee. People who plan to attend the meeting and have special needs should call (865) 632-6000. Anyone who wishes to comment on any of the agenda in writing may send their comments to: TVA Board of Directors, Board Agenda Comments, 400 West Summit Hill Drive, Knoxville, Tennessee 37902.

Dated: November 2, 2017.
Sherry A. Quirk,
General Counsel.

[FR Doc. 2017-24298 Filed 11-3-17; 11:15 am]

BILLING CODE 8120-08-P